CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps State Commission Support Grant Application Instructions to the Office of Management and Budget (OMB) for review and approval in accordance with the Paperwork Reduction Act of 1995, Public Law 104-13. Copies of this ICR, with applicable supporting documentation, may be obtained by calling the Corporation for National and Community Service, Mr. James Stone at 202-606-6885 or via email jstone@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on March 23, 2017. This comment period ended May 22, 2017. No comments were received in response to this Notice.

Description: CNCS is seeking approval of the AmeriCorps State Commission Application Instructions. State service commissions will respond to the questions included in this Information Collection Request in order to report on their use of federal funds and progress against their annual plan.

Type of Review: Reinstatement.

Agency: Corporation for National and Community Service.

Title: AmeriCorps State Commission Support Grant Application Instructions.

OMB Number: 3045-0099.

Agency Number: None.

Affected Public: State service commissions.

Total Respondents: 54.

Frequency: Annually.

Average Time per Response: 37 hours.

Estimated Total Burden Hours: 1,998 hours.

Total Burden Cost (capital/startup): None.

Total Burden Cost (operating/maintenance): None.

Dated: June 5, 2017.
Jill Graham,
Acting Deputy Director, AmeriCorps State and National.

[FR Doc. 2017-12002 Filed 6-8-17; 8:45 am]

BILLING CODE 6050-28-P